DEPARTMENT OF THE INTERIOR

Bureau of Land Management

[OR-130-1020-PH; GP7-0005]

Notice of Public Meeting, Eastern Washington Resource Advisory Council Meeting

AGENCY: Bureau of Land Management, U.S. Department of the Interior.

ACTION: Notice of Public Meeting.

SUMMARY: In accordance with the Federal Land Policy and Management Act of 1976 and the Federal Advisory Committee Act of 1972, the U.S. Department of the Interior, Bureau of Land Management Eastern Washington Resource Advisory Council will meet as indicated below.

DATES: The Eastern Washington Resource Advisory Council will meet Friday, November 3, 2006 at the Spokane District Office, Bureau of Land Management, 1103 North Fancher Road, Spokane Valley, Washington, 99212-1275.

SUPPLEMENTARY INFORMATION: The meeting will start at 8 a.m., adjourn at 4 p.m., and will be open to the public. Topics of discussion will include Federal Energy Regulatory Commission (FERC) re-licensing of dams, energy development, and rights-of-way corridors. There will be an opportunity for public comment at 3 p.m.

FOR FURTHER INFORMATION CONTACT: Scott Pavey, Bureau of Land Management, Spokane District Office, 1103 N. Fancher Road, Spokane Valley, Washington, 99212, or call (509) 536-1200.

Dated: October 4, 2006.
Richard Bailey,
Acting District Manager.

[FR Doc. E6-16743 Filed 10-10-06; 8:45 am]

BILLING CODE 4310-33-P